DEPARTMENT OF THE INTERIOR

Bureau of Land Management

[LLWO320000 L19900000 PO0000; OMB Control Number 1004-0025]

Information Collection; Mineral Surveys, Mineral Patent Applications, Adverse Claims, Protests, and Contests

AGENCY: Bureau of Land Management, Interior.

ACTION: 30-day Notice and Request for Comments.

SUMMARY: The Bureau of Land Management (BLM) has submitted an information collection request to the Office of Management and Budget (OMB) for a 3-year extension of OMB Control Number 1004-0025 under the Paperwork Reduction Act. This control number covers paperwork requirements in 43 CFR part 3860, which pertain to mineral patent applications, and in 43 CFR part 3870, which pertain to adverse claims, protests, and conflicts.

DATES: The OMB is required to respond to this information collection request within 60 days but may respond after 30 days. Therefore, written comments should be received on or before December 28, 2009.

ADDRESSES: You may submit comments directly to the Desk Officer for the Department of the Interior (OMB #1004-0025), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to jean_sonneman@blm.gov.

FOR FURTHER INFORMATION CONTACT: Rick Deery, Solid Minerals Group, at 202-912-7119 (Commercial or FTS). Persons who use a telecommunication device for the deaf (TDD) may call the Federal Information Relay Service (FIRS) on 1-800-877-8339, to contact Mr. Deery.

SUPPLEMENTARY INFORMATION: Title: Mineral Surveys, Mineral Patent Applications, Adverse Claims, Protests, and Contests (43 CFR 3860 and 3870).

OMB Control Number: 1004-0025.

Abstract: This notice pertains to information collections that are necessary to determine whether or not applications for mineral patents should be granted, and to information collections that authorize challenges to such applications. The BLM considers such applications and challenges under the General Mining Law and other statutes that authorize the Secretary of the Interior to regulate the development of mineral deposits on Federal lands. The information collections covered by this notice are found at 43 CFR parts 3860 and 3870, and in the following forms:

• Form 3860-2, Certificate of Title on Mining Claims; and

• Form 3860-5, Application for Survey of Mining Claim.

60-Day Notice: The required 60-day notice was published in the Federal Register on June 3, 2009 (74 FR 26726). The public comment period closed on August 3, 2009. We did not receive any comments.

Current Action: This proposal is being submitted to extend the expiration date of November 30, 2009.

Type of Review: 3-year extension.

Affected Public: Individuals, associations, and corporations applying for mineral patents, or seeking to challenge such applications.

Obligation to Respond: Required to obtain or retain benefits.

Annual Responses: 7.

Annual Burden Hours: 256.

Document processing fees are associated with some of these information collections.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0025 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. E9-28437 Filed 11-25-09; 8:45 am]

BILLING CODE 4310-84-P